DEPARTMENT OF JUSTICE

Office of Juvenile Justice and Delinquency Prevention; Office of National Drug Control Policy

[OJP(OJJDP)-1314]

Drug-Free Communities Support Program

AGENCY: Office of National Drug Control Policy, Executive Office of the President, and Office of Justice Programs, Office of Juvenile Justice and Delinquency Prevention, Justice.

ACTION: Notice of funding availability.

SUMMARY: The Executive Office of the President, Office of National Drug Control Policy (ONDCP), and the U.S. Department of Justice, Office of Juvenile Justice and Delinquency Prevention (OJJDP), are requesting applications for the fiscal year 2001 Drug-Free Communities Support Program to reduce substance abuse among youth and, over time, among adults. Approximately 144 grants of up to $100,000 each will be awarded to community coalitions that are working to prevent and reduce substance abuse among youth.

DATES: Applications must be received by June 25, 2001.

ADDRESSES: All applications must be mailed or delivered to the Office of Juvenile Justice and Delinquency Prevention, c/o Juvenile Justice Resource Center, 2277 Research Boulevard, Mail Stop 2K, Rockville, MD 20850; 301-519-5535. Faxed or e-mailed applications will not be accepted. Interested applicants can obtain the FY 2001 Drug-Free Communities Support Program Application Package, which includes the Program Announcement, required forms, and instructions on how to apply, from the Juvenile Justice Clearinghouse at 800-638-8736 or the ONDCP Drug Policy Information Clearinghouse at 800-666-3332. The Application Package is also available at OJJDP's Web site at http://www.ojjdp.ncjrs.org (click on “Grants & Funding”) and ONDCP's Web site at http://www.whitehousedrugpolicy.gov/prevent/drugfree.html.

FOR FURTHER INFORMATION CONTACT: One of the following Program Managers at OJJDP:

• Pat Maher, Northwest Region, at 202-514-4158 or e-mail maherp@ojp.usdoj.gov

• Mark Morgan, Southwest Region, at 202-353-9243 or e-mail morganm@ojp.usdoj.gov

• Jay Mykytiuk, Mid-West/West Region, at 202-514-1351 or e-mail mykytiuk@ojp.usdoj.gov

• Judy Poston, Southeast Region, at 202-616-1283 or e-mail poston@ojp.usdoj.gov

• James Simonson, Northeast/East Region, at 202-353-9313, or e-mail simonson@ojp.usdoj.gov

• Gwen Williams, Central Region, at 202-616-1611, or e-mail williamg@ojp.usdoj.gov

• Lauren Ziegler, Northeast Region, at 202-616-8988, or e-mail zieglerl@ojp.usdoj.gov

[These are not toll-free numbers.]

SUPPLEMENTARY INFORMATION: The Drug-Free Communities Support Program is authorized by the Drug-Free Communities Act of 1997 (Pub. L. 105-20). The program is designed to strengthen community antidrug coalitions and reduce substance abuse among youth.

Grantees will receive up to $100,000 in funding and training and technical assistance to reduce substance abuse among youth by addressing the factors in a community that serve to increase or decrease the risk of substance abuse and establish and strengthen collaboration among communities, including Federal, State, local, and tribal governments and private nonprofit agencies to support community coalition efforts to prevent and reduce substance abuse among youth.

Eligible applicants are community coalitions whose members have worked together on substance abuse reduction initiatives for a period of not less than 6 months. The coalition will use entities such as task forces, subcommittees, community boards, and any other community resource that will enhance the coalition's collaborative effort. With substantial participation from community volunteer leaders, the coalition will implement multisector, multistrategy, long-term plans designed to reduce substance abuse among youth. Coalitions may be umbrella coalitions serving multicounty areas. However, no statewide grants will be awarded.

Dated: April 11, 2001.
Gregory L. Dixon,
Administrator, Drug-Free Communities Support Program, Office of National Drug Control Policy.
Dated: April 10, 2001.
John J. Wilson,
Acting Administrator, Office of Juvenile Justice and Delinquency Prevention.

[FR Doc. 01-9649 Filed 4-18-01; 8:45 am]

BILLING CODE 4410-18-P